DEPARTMENT OF COMMERCE

National Oceanic and Atmospheric Administration

[I.D. 031105E]

Endangered Species; File No. 1409

AGENCY: National Marine Fisheries Service (NMFS), National Oceanic and Atmospheric Administration (NOAA), Commerce.

ACTION: Receipt of application for modification.

SUMMARY: Notice is hereby given that Karen G. Holloway-Adkins, Executive Director of East Coast Biologists, Inc., Indialantic, FL 32903, has requested a modification to scientific research Permit No. 1409.

DATES: Written, telefaxed, or e-mail comments must be received on or before April 22, 2005.

ADDRESSES: The modification request and related documents are available for review upon written request or by appointment in the following office(s):

Permits, Conservation and Education Division, Office of Protected Resources, NMFS, 1315 East-West Highway, Room 13705, Silver Spring, MD 20910; phone (301) 713-2289; fax (301) 427-2521; and

Southeast Region, NMFS, 263 13th Avenue South, St. Petersburg, FL 33701; phone (727) 824-5312; fax (727) 824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301) 427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1409.

FOR FURTHER INFORMATION CONTACT: Patrick Opay or Ruth Johnson, (301) 713-2289.

SUPPLEMENTARY INFORMATION: The subject modification to Permit No. 1409, issued on July 28, 2003 (68 FR 44297) is requested under the authority of the Endangered Species Act of 1973, as amended (16 U.S.C. 1531 et seq.) and the regulations governing the taking, importing, and exporting of endangered and threatened species (50 CFR 222-226).

Permit No. 1409 authorizes the permit holder to conduct research on green (Chelonia mydas) and loggerhead sea turtles (Caretta caretta) for scientific research. The research is attempting to characterize the turtle aggregations using the nearshore reefs in central Brevard County as developmental habitat and to better understand their foraging habitats and movements. The permit holder requests authorization to increase the research area by an additional 3.4 miles (5.5 kilometers) to the south in order to study animals using the lower less dense reefs in this area. No increase in take or additional research activities are requested.

Dated: March 17, 2005.
Stephen L. Leathery,
Chief, Permits, Conservation and Education Division, Office of Protected Resources, National Marine Fisheries Service.

[FR Doc. 05-5750 Filed 3-22-05; 8:45 am]

BILLING CODE 3510-22-S